DEPARTMENT OF AGRICULTURE

Animal and Plant Health Inspection Service

[Docket No. APHIS-2016-0103]

Notice of Determination; Changes to the National Poultry Improvement Plan Program Standards

AGENCY: Animal and Plant Health Inspection Service, USDA.

ACTION: Notice.

SUMMARY: We are updating the National Poultry Improvement Plan (NPIP) Program Standards document. In a previous notice, we made available to the public for review and comment proposed changes to the NPIP Program Standards document to establish new biosecurity principles, amend testing procedures for Mycoplasma, clarify laboratory procedures for Salmonella, add new diagnostic tests for Mycoplasma and Salmonella, and reduce confusion between references to the regulations and the Program Standards.

DATES: Effective July 5, 2017.

FOR FURTHER INFORMATION CONTACT: Dr. Denise Brinson, DVM, Senior Coordinator, National Poultry Improvement Plan, VS, APHIS, USDA, 1506 Klondike Road, Suite 101, Conyers, GA 30094-5104; (770) 922-3496.

SUPPLEMENTARY INFORMATION: The regulations in 9 CFR parts 145, 146, and 147 (referred to below as the regulations) contain the provisions of the National Poultry Improvement Plan (NPIP), a cooperative Federal-State-Industry mechanism for controlling certain poultry diseases. The Animal and Plant Health Inspection Service (APHIS) of the U.S. Department of Agriculture amends these provisions from time to time to incorporate new scientific information and technologies within the Plan.

In § 147.53, paragraph (b) states that approved tests and sanitation procedures used to qualify flocks for NPIP classifications are set out in the NPIP Program Standards.¹ In that section, paragraphs (d) and (e) set out the process for adding or revising tests or sanitation procedures. Paragraph (e)(1) states that APHIS will publish a notice in the Federal Register making the test or sanitation procedure available for public comment. Paragraph (e)(2)(i) states that, at the end of the comment period, the test or sanitation procedure will be added to the NPIP Program Standards, or the NPIP Program Standards will be updated to reflect changes to an existing test or sanitation procedure, if:

¹ The Program Standards may be viewed on the NPIP Web site at http://www.poultryimprovement.org/documents/ProgramStandardsAugust2014.pdf, or by writing to the Service at National Poultry Improvement Plan, APHIS, USDA, 1506 Klondike Road, Suite 101, Conyers, GA 30094.

• No comments were received on the notice;

• The comments on the notice supported the action described in the notice; or

• The comments on the notice were evaluated but did not change the Administrator's determination that approval of the test or sanitation procedure is appropriate based on the standards in paragraph (a) of § 147.53.

On February 13, 2017, we published a notice ² in the Federal Register (82 FR 10452-10453, Docket No. APHIS-2016-0103) advising the public that we had prepared updates to the NPIP Program Standards document. The proposed updates would amend the Program Standards by establishing new standards for biosecurity principles. They also would amend the hemagglutination inhibition test procedures for Mycoplasma, clarify the laboratory procedure recommended for the bacteriological examination of Salmonella in birds, amend the laboratory procedure recommended for polymerase chain reaction (PCR) tests for Mycoplasma gallisepticum and M. synoviae, and add new diagnostic tests for Mycoplasma and Salmonella. Finally, we noted that the Program Standards are currently divided into subparts in the same way the regulations are. Therefore, we proposed to change the use of the word “Subpart” to “Standard” in the Program Standards for ease of distinguishing between references to the regulations and references to the Program Standards.

² To view the notice, go to http://www.regulations.gov/#!docketDetail;D=APHIS-2016-0103.

We solicited comments on the notice for 30 days ending on March 15, 2017. We did not receive any comments by that date.

Therefore, in accordance with our regulations in § 147.53(e)(2)(i)(A), we are revising the NPIP Program Standards as described in our previous notice. We are also making a minor change to the NPIP Program Standards document due to a change in company ownership of one of the approved diagnostic test kits. The diagnostic test kit is the Bax® PCR assays for Salmonella 1 and 2, which was previously owned by Dupont Qualicon. The test kit is now owned by Qualicon Diagnostics LLC, a Hygiena Company.

Authority: 7 U.S.C. 8301-8317; 7 CFR 2.22, 2.80, and 371.4.

Done in Washington, DC, this 1st day of May 2017.
Michael C. Gregoire,
Acting Administrator, Animal and Plant Health Inspection Service.

[FR Doc. 2017-09141 Filed 5-4-17; 8:45 am]

BILLING CODE 3410-34-P